DEPARTMENT OF JUSTICE

Notice of Lodging of Consent Decree Pursuant to the Clean Air Act, the Clean Water Act, the Resource Conservation and Recovery Act, the Emergency Planning and Community Right To Know Act, and the Comprehensive Environmental Response, Compensation and Liability Act

Notice is hereby given that a consent decree in United States and the State of Delaware v. Formosa Plastics Corporation, Delaware, Civil Action No. 05-443 (D. Del.) was lodged with the court on June 28, 2005.

The proposed consent decree resolves alleged violations of the Clean Air Act, the Clean Water Act, the Resource Conservation and Recovery Act, the Emergency Planning and Community Right to Know Act and the Comprehensive Environmental Response, Compensation and Liability Act that occurred at Formosa's Delaware City, Delaware PVC manufacturing facility. It requires the defendant to pay a civil penalty of $225,000 to the United States and $225,000 to the State; to meet detailed requirements designed to prevent future violations of each of the above statutes; to reduce emissions of vinyl chloride to the ambient Air to levels substantially below those otherwise allowed by law; and to carry out a supplemental environmental project that will protect against the chance of an accidental release of vinyl chloride gas.

The Department of Justice will receive, for a period of thirty (30) days from the date of this publication, comments relating to the proposed consent decree. Comments should be addressed to the Assistant Attorney General, Environment and Natural Resources Division, PO Box 7611, U.S. Department of Justice, Washington, DC 2004, and should refer to United States and the State of Delaware v. Formosa Plastics Corporation, Delaware, Civil Action No. 05-443 (D. Del.), DOJ Ref. # 90-5-2-1-08297.

The proposed consent decree may be examined and copied at the Office of the United States Attorney, 1007 North Orange Street, Suite 700, Wilmington, DE 19899-2046; or at the Region III Office of the Environmental Protection Agency, c/o Joyce Howell, Senior Assistant Regional Counsel, 1650 Arch Street, Philadelphia, PA 19103. During the public comment period, the amended consent decree may also be examined on the following Department of Justice Web site, http://www.usdoj.gov/enrd/open.html. A copy of the amended decree may also be obtained by mail from the Consent Decree Library, P.O. Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $13.75 (25 cents per page reproduction cost) payable to the U.S. Treasury.

Robert Brook,
Assistant Chief, Environmental Enforcement Section, Environment and Natural Resources Division.

[FR Doc. 05-13388 Filed 7-6-05; 8:45 am]

BILLING CODE 4410-15-M